DEPARTMENT OF THE INTERIOR

National Park Service

[NPS-WASO-NAGPRA-NPS0038392; PPWOCRADN0-PCU00RP14.R50000]

Notice of Intended Repatriation: University of California San Diego, San Diego, CA

AGENCY: National Park Service, Interior.

ACTION: Notice.

SUMMARY: In accordance with the Native American Graves Protection and Repatriation Act (NAGPRA), the University of California San Diego intends to repatriate certain cultural items that meet the definition of unassociated funerary objects, sacred objects, or objects of cultural patrimony and that have a cultural affiliation with the Indian Tribes or Native Hawaiian organizations in this notice.

DATES: Repatriation of the cultural items in this notice may occur on or after September 5, 2024.

ADDRESSES: Eva Trujillo, Repatriation Coordinator, University of California San Diego, 9500 Gilman Drive, La Jolla, CA 92093, telephone (858) 246-2725, email e7trujillo@ucsd.edu.

SUPPLEMENTARY INFORMATION: This notice is published as part of the National Park Service's administrative responsibilities under NAGPRA. The determinations in this notice are the sole responsibility of the University of California San Diego, and additional information on the determinations in this notice, including the results of consultation, can be found in the summary or related records. The National Park Service is not responsible for the determinations in this notice.

Abstract of Information Available

A total of 1,922 cultural items have been requested for repatriation. The 355 unassociated funerary objects and three sacred objects (358 total objects) consist of one lot of unmodified faunal bone, 284 lots of chipped stone artifacts, one lot of groundstone, 41 lots of historic artifacts, 10 lots of other lithic material, one lot of modified shell, one lot of unmodified shell, one lot of other chipped stone, three lots of soil samples, 14 lots of vegetal material, and one lot of organic material. In July and August of 1976 and December 2000, archaeologists associated with the University of California San Diego excavated and removed associated funerary objects at the site CA-SDI-4670, for the purpose of archaeological research.

The 66 unassociated funerary objects consist of 57 lots of chipped stone, one lot of groundstone, six lots of other lithic materials, one lot of unmodified shell, and one lot of soil samples. At an unknown date in 1986 and 1987, the archaeological site CA-SDI-11075 was excavated by Dr. Patricia Masters for the purpose of research.

The one unassociated funerary object consists of one lot of chipped stone. In November of 1979, Darcy Ike, Douglas Flower and Linda Roth was serving as an archaeological observer for the University of California San Diego during grading associated with construction of a new seawall segment. These items were excavated and removed at archeological site W-151 for the purpose of research.

The 10 unassociated funerary objects consist of two lots of unmodified faunal bone, three lots of chipped stone, one lot of other lithic material, one lot of unmodified shell, and three lots of other vegetal material. At an unknown date, the University of California San Diego came into possession of these items from archaeological site CA-SDI-10940.

The 1,363 unassociated funerary objects consist of five lot of modified faunal bone, 55 lots of unmodified faunal bone, eight lots of ceramics, 143 lots of chipped stone, 75 lots of groundstone, six lots of historic items, 44 lots of organic material, 64 lots of ecofact, 17 lots of modified shell, 926 lots of unmodified shell, eight lots of soil samples, and 12 lots of fire affected stone. Sometime between 1947 and 1976 these items were excavated and removed from various unknown sites in the vicinity of La Jolla, California, by University of California San Diego associates Dr. C.L Hubbs and party. The unassociated funerary objects listed were incorporated into what became known as the “Hubbs Collection.” In 1973, Dr. Hubbs bequeathed the Hubbs Collection to the Museum of Us (formerly the San Diego Museum of Man). In March of 2004, the Museum of Us (MoU) deaccessioned the Hubbs Collection and donated it to the University of San Diego (USD) Anthropology Department, although some of the collection remained at the MoU. Given the scope of the collection and complexities related to provenance, UCSD, MoU, and USD reached an agreement to work together to facilitate NAGPRA compliance.

The 15 objects of cultural patrimony consist of five lots of chipped stone, one lot of other organic material, one lot of organic plant material, six lots of unmodified shell, one lot of soil samples, and one lot of battered stone. In April 1959 these items were excavated and removed from the site known as 1959:IV:19 (A) in the vicinity of Chula Vista, San Diego, California by University of California San Diego associates Dr. C.L Hubbs and party. The objects of cultural patrimony listed were incorporated into what became known as the “Hubbs Collection.” In 1973, Dr. Hubbs bequeathed the Hubbs Collection to the Museum of Us (formerly the San Diego Museum of Man). In March of 2004, the Museum of Us (MoU) deaccessioned the Hubbs Collection and donated it to the University of San Diego (USD) Anthropology Department, although some of the collection remained at the MoU. Given the scope of the collection and complexities related to provenance, UCSD, MoU, and USD reached an agreement to work together to facilitate NAGPRA compliance.

The 20 objects of cultural patrimony consist of one lot of chipped stone, one lot of groundstone, one lot of organic material, one lot of ecofact, one lot of modified shell, and 15 lots of unmodified shell. Sometime in between December 1944 and June 1959, these items were excavated and removed from the site known as 1944:XII:28, 1955:III:18 and 1959:XI:12 in the vicinity of Mission Bay, San Diego, California by University of California San Diego associates Dr. C.L Hubbs and party. The objects of cultural patrimony listed were incorporated into what became known as the “Hubbs Collection.” In 1973, Dr. Hubbs bequeathed the Hubbs Collection to the Museum of Us (formerly the San Diego Museum of Man). In March of 2004, the Museum of Us (MoU) deaccessioned the Hubbs Collection and donated it to the University of San Diego (USD) Anthropology Department, although some of the collection remained at the MoU. Given the scope of the collection and complexities related to provenance, UCSD, MoU, and USD reached an agreement to work together to facilitate NAGPRA compliance.

The three objects of cultural patrimony consist of one lot of chipped stone, one lot of organic material, and one lot of soil samples. Sometime in between January 1957 and March 1959, these items were excavated and removed from the site known as 1957:I:5A, 1957:II:2, and 1959:III:8D in the vicinity of University Heights, San Diego, California, by University of California San Diego associates Dr. C.L Hubbs and party. The objects of cultural patrimony listed were incorporated into what became known as the “Hubbs Collection.” In 1973, Dr. Hubbs bequeathed the Hubbs Collection to the Museum of Us (formerly the San Diego Museum of Man). In March of 2004, the MoU deaccessioned the Hubbs Collection and donated it to the USD Anthropology Department, although some of the collection remained at the MoU. Given the scope of the collection and complexities related to provenance, UCSD, MoU, and USD reached an agreement to work together to facilitate NAGPRA compliance.

The 40 objects of cultural patrimony consist of one lot of modified faunal bone, one lot of unmodified faunal bone, two lots of ceramics, eight lots of chipped stone, four lots of groundstone, three lots of organic material, 16 lots of unmodified shell, one lot of soil samples, two lots of ecofacts, and two lots of fire affected stones. Sometime in January 1956 and January 1957, these items were excavated and removed from the site known 1956:XII:15, 1956:XII:2, 1956:XII:3, 1956:I:11, and 1957:I:12 in the vicinity of National City, San Diego, California, by University of California San Diego associates Dr. C.L Hubbs and party. The objects of cultural patrimony listed were incorporated into what became known as the “Hubbs Collection.” In 1973, Dr. Hubbs bequeathed the Hubbs Collection to the Museum of Us (formerly the San Diego Museum of Man). In March of 2004, the MoU deaccessioned the Hubbs Collection and donated it to the USD Anthropology Department, although some of the collection remained at the MoU. Given the scope of the collection and complexities related to provenance, UCSD, MoU, and USD reached an agreement to work together to facilitate NAGPRA compliance.

The 19 objects of cultural patrimony consist of one lot of modified faunal bone, five lots of unmodified faunal bone, two lots of ceramics, three lots of organic material, six lots of unmodified shell, one lot of soil samples, and one lot of ecofacts. In 1955, these items were excavated and removed from the site known 1955:IV:16, 1955:IV:2, and 1955:IV:9 in the vicinity of south-eastern Ocotillo, Imperial County, California, by University of California San Diego associates Dr. C.L Hubbs and party. The objects of cultural patrimony listed were incorporated into what became known as the “Hubbs Collection.” In 1973, Dr. Hubbs bequeathed the Hubbs Collection to the Museum of Us (formerly the San Diego Museum of Man). In March of 2004, the Museum of Us (MoU) deaccessioned the Hubbs Collection and donated it to the University of San Diego (USD) Anthropology Department, although some of the collection remained at the MoU. Given the scope of the collection and complexities related to provenance, UCSD, MoU, and USD reached an agreement to work together to facilitate NAGPRA compliance.

The 16 objects of cultural patrimony consist of seven lots of unmodified faunal bone, two lots of chipped stone, one lot of groundstone, and six lots of unmodified shell. In August of 1959 and August 1967, these items were excavated and removed from the site known 1959:VIII:10, and 1967:VIII:2 in the vicinity of Pacific Beach, San Diego, California, by University of California San Diego associates Dr. C.L Hubbs and party. The objects of cultural patrimony listed were incorporated into what became known as the “Hubbs Collection.” In 1973, Dr. Hubbs bequeathed the Hubbs Collection to the Museum of Us (formerly the San Diego Museum of Man). In March of 2004, the Museum of Us (MoU) deaccessioned the Hubbs Collection and donated it to the University of San Diego (USD) Anthropology Department, although some of the collection remained at the MoU. Given the scope of the collection and complexities related to provenance, UCSD, MoU, and USD reached an agreement to work together to facilitate NAGPRA compliance.

The two objects of cultural patrimony consist of one lot of chipped stone and one lot of ceramics. In January and March of 1961, these items were excavated and removed from the site known 1961:I:27 and 1961:III:13 in the vicinity of San Pascual, San Diego, California, by University of California San Diego associates Dr. C.L Hubbs and party. The objects of cultural patrimony listed were incorporated into what became known as the “Hubbs Collection.” In 1973, Dr. Hubbs bequeathed the Hubbs Collection to the Museum of Us (formerly the San Diego Museum of Man). In March of 2004, the Museum of Us (MoU) deaccessioned the Hubbs Collection and donated it to the University of San Diego (USD) Anthropology Department, although some of the collection remained at the MoU. Given the scope of the collection and complexities related to provenance, UCSD, MoU, and USD reached an agreement to work together to facilitate NAGPRA compliance.

The one item of cultural patrimony consists of one lot of ecofact. Sometime between 1947 and 1976 these items were excavated and removed from the sites in the vicinity of San Ysidro, San Diego, California, by University of California San Diego associates Dr. C.L Hubbs and party. The objects of cultural patrimony listed were incorporated into what became known as the “Hubbs Collection.” In 1973, Dr. Hubbs bequeathed the Hubbs Collection to the Museum of Us (formerly the San Diego Museum of Man). In March of 2004, the Museum of Us (MoU) deaccessioned the Hubbs Collection and donated it to the University of San Diego (USD) Anthropology Department, although some of the collection remained at the MoU. Given the scope of the collection and complexities related to provenance, UCSD, MoU, and USD reached an agreement to work together to facilitate NAGPRA compliance.

The three items of cultural patrimony consist of three lots of unmodified shell. In June of 1959 these items were excavated and removed from the site known as 1959:XI:16 in the vicinity of Sorrento Valley, San Diego, California by University of California San Diego associates Dr. C.L Hubbs and party. The objects of cultural patrimony listed were incorporated into what became known as the “Hubbs Collection.” In 1973, Dr. Hubbs bequeathed the Hubbs Collection to the Museum of Us (formerly the San Diego Museum of Man). In March of 2004, the Museum of Us (MoU) deaccessioned the Hubbs Collection and donated it to the University of San Diego (USD) Anthropology Department, although some of the collection remained at the MoU. Given the scope of the collection and complexities related to provenance, UCSD, MoU, and USD reached an agreement to work together to facilitate NAGPRA compliance.

The four items of cultural patrimony consist of one lot of ceramics and three lots of chipped stone. In June of 1965 these items were excavated and removed from the site known as 1965:XI:11A in the vicinity of Tecate, San Diego, California by University of California San Diego associates Dr. C.L Hubbs and party. The items of cultural patrimony listed were incorporated into what became known as the “Hubbs Collection.” In 1973, Dr. Hubbs bequeathed the Hubbs Collection to the Museum of Us (formerly the San Diego Museum of Man). In March of 2004, the Museum of Us (MoU) deaccessioned the Hubbs Collection and donated it to the University of San Diego (USD) Anthropology Department, although some of the collection remained at the MoU. Given the scope of the collection and complexities related to provenance, UCSD, MoU, and USD reached an agreement to work together to facilitate NAGPRA compliance.

The one sacred item is a ceramic fragment. In May of 1972 these items were excavated and removed from the site known as 1972:V:21(A) in the vicinity of the In-Ko-Pah mountains, Imperial County, California by University of California San Diego associates Dr. C.L Hubbs and party. The sacred objects listed were incorporated into what became known as the “Hubbs Collection.” In 1973, Dr. Hubbs bequeathed the Hubbs Collection to the Museum of Us (formerly the San Diego Museum of Man). In March of 2004, the Museum of Us (MoU) deaccessioned the Hubbs Collection and donated it to the University of San Diego (USD) Anthropology Department, although some of the collection remained at the MoU. Given the scope of the collection and complexities related to provenance, UCSD, MoU, and USD reached an agreement to work together to facilitate NAGPRA compliance.

Determinations

The University of California San Diego has determined that:

• The 1,795 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The four sacred objects described in this notice are specific ceremonial objects needed by a traditional Native American religious leader for present-day adherents to practice traditional Native American religion, according to the Native American traditional knowledge of a lineal descendant, Indian Tribe, or Native Hawaiian organization.

• The 123 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 5, 2024. If competing requests for repatriation are received, the University of California San Diego must determine the most appropriate requestor prior to repatriation. Requests for joint repatriation of the cultural items are considered a single request and not competing requests. The University of California is responsible for sending a copy of this notice to the Indian Tribes and Native Hawaiian organizations identified in this notice and to any other consulting parties.

Authority: Native American Graves Protection and Repatriation Act, 25 U.S.C. 3004 and the implementing regulations, 43 CFR 10.9.

Dated: July 25, 2024.
Melanie O'Brien,
Manager, National NAGPRA Program.

[FR Doc. 2024-17254 Filed 8-5-24; 8:45 am]

BILLING CODE 4312-52-P